NATIONAL AERONAUTICS AND SPACE ADMINISTRATION

[Notice (08-036)]

Government-Owned Inventions, Available for Licensing

AGENCY: National Aeronautics and Space Administration.

ACTION: Notice of availability of inventions for licensing.

SUMMARY: The inventions listed below assigned to the National Aeronautics and Space Administration have been filed in the United States Patent and Trademark Office, and are available for licensing.

DATES: April 29, 2008.

FOR FURTHER INFORMATION CONTACT: Edward K. Fein, Patent Counsel, Johnson Space Center, Mail Code AL, Houston, TX 77058-8452; telephone (281) 483-4871; fax (281) 483-6936.

NASA Case No. MSC-24215-1: Inflatable Nested Toroid Structure;

NASA Case No. MSC-23881-1: Two-Axis Joint Assembly And Method;

NASA Case No. MSC-24263-1: Impact Detection System;

NASA Case No. MSC-22939-3: Externally Triggered Microcapsules;

NASA Case No. MSC-23988-1: Micro-Organ Device.

Dated: April 23, 2008.
Keith T. Sefton,
Deputy General Counsel,Administration and Management.

[FR Doc. E8-9367 Filed 4-28-08; 8:45 am]

BILLING CODE 7510-13-P